NUCLEAR REGULATORY COMMISSION

Notice of Extension of Call for Nominations for the Advisory Committee on the Medical Uses of Isotopes

AGENCY: U.S. Nuclear Regulatory Commission.

ACTION: Notice of extension.

SUMMARY: A call for nominations was published by the U.S. Nuclear Regulatory Commission (NRC) in the Federal Register on June 22, 2017, for the positions of Agreement State representative, nuclear medicine physicist, and Health Care Administrator on the Advisory Committee on the Medical Uses of Isotopes (ACMUI). The nomination period ended on August 21, 2017. This notice confirms a 45-day extension of the nomination period until October 5, 2017, for only the Health Care Administrator position.

DATES: The nomination period for the notice published June 22, 2017 (82 FR 28533) is extended. Nominations for the Health Care Administrator position are due on or before October 5, 2017.

ADDRESSES: Nomination Process: Submit an electronic copy of a resume or curriculum vitae, along with a cover letter, to Ms. Sophie Holiday, Sophie.Holiday@nrc.gov. The resume or curriculum vitae for the Health Care Administrator should include the following information, as applicable: Education; certification; professional association membership and committee membership activities; and number of years, recentness, and type of setting for health care administration. The cover letter should describe the nominee's current involvement with health care administration and express the nominee's interest in the position. Nominees for the Health Care Administrator position should have professional or personal experience with or knowledge about health care administration.

FOR FURTHER INFORMATION CONTACT: Ms. Sophie Holiday, U.S. Nuclear Regulatory Commission, Office of Nuclear Material Safety and Safeguards; (301) 415-7865; sophie.holiday@nrc.gov.

Dated at Rockville, Maryland, on August 21, 2017.
For the U.S. Nuclear Regulatory Commission.
Andrew L. Bates,
Advisory Committee Management Officer.

[FR Doc. 2017-17957 Filed 8-23-17; 8:45 am]

BILLING CODE 7590-01-P